DEPARTMENT OF LABOR

Employment and Training Administration

Notice of Approval of South Carolina's Application for a Waiver of the Additional Credit Reduction That Was To Be Applied to the 2013 Credit Reduction Under the Federal Unemployment Tax Act

AGENCY: Employment and Training Administration, Labor.

ACTION: Notice.

SUMMARY: Sections 3302(c)(2) and 3302(d)(3) of the Federal Unemployment Tax Act (FUTA) provide that employers in a state that has an outstanding balance of advances under Title XII of the Social Security Act at the beginning of January 1 of two or more consecutive years are subject to a reduction in credits otherwise available against the FUTA tax for the calendar year in which the most recent such January 1 occurs, if a balance of advances remains at the beginning of November 10 of that year. Further, section 3302(c)(2) of FUTA provides that a state may face additional credit reduction for a year by failing to meet certain criteria.

South Carolina applied for a waiver of the 2013 additional credit reduction under section 3302 (c)(2)(C) of FUTA and it has been determined that South Carolina met all of the criteria of this section necessary to qualify for the waiver of the additional credit reduction. Therefore, South Carolina employers will have no additional credit reduction applied for calendar year 2013.

Signed at Washington, DC, this 5th day of December, 2013.
Eric M. Seleznow,
Acting Assistant Secretary for Employment and Training.

[FR Doc. 2013-29850 Filed 12-16-13; 8:45 am]

BILLING CODE 4510-FW-P